DEPARTMENT OF ENERGY

Federal Energy Regulatory Commission

[Docket No. RP95-408-051]

Columbia Gas Transmission Corporation; Notice of Filing

March 26, 2003.

Take notice that on March 20, 2003, Columbia Gas Transmission Corporation (Columbia Gas) filed a report on the flow-back to customers of funds received from insurance carriers for environmental costs attributable to Columbia Gas' Docket No. RP95-408 settlement period.

Columbia Gas states that it allocated such recoveries among customers based on terms of the Docket No. RP95-408 Phase II Settlement which state that customer allocations shall be based on customers' actual contributions to Remediation Program collections for the most recent February 1—January 31 period.

Columbia Gas states further that it provided a copy of the report to all customers who received a share of the environmental insurance recoveries and all state commissions whose jurisdiction includes the location of any such recipient.

Any person desiring to protest said filing should file a protest with the Federal Energy Regulatory Commission, 888 First Street, NE., Washington, DC 20426, in accordance with Section 385.211 of the Commission's Rules and Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 2, 2003.

Magalie R. Salas,
Secretary.

[FR Doc. 03-7877 Filed 4-1-03; 8:45 am]

BILLING CODE 6717-01-P